FEDERAL ELECTION COMMISSION

[NOTICE 2020-03]

Filing Dates for the Georgia Senate Special Election

AGENCY: Federal Election Commission.

ACTION: Notice of filing dates for special election.

SUMMARY: Georgia has scheduled a Special General Election on November 3, 2020, to fill the U.S. Senate seat vacated by Senator Johnny Isakson. Under Georgia law, a majority winner in a Special General Election is declared elected. Should no candidate achieve a majority vote, a Special Runoff Election will be held on January 5, 2021, between the top two vote-getters. Political committees participating in the Georgia special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in both the Georgia Special General and Special Runoff Elections shall file a 12-day Pre-General Report on October 22, 2020; a 12-day Pre-Runoff Report on December 24, 2020; and a 30-day Post-Runoff Report on February 4, 2021. (See charts below for the closing date for each report.)

If both elections are held, all principal campaign committees of candidates who participate only in the Special General Election shall file a 12-day Pre-General Report on October 22, 2020. (See charts below for the closing date for each report.)

If only one election is held, all principal campaign committees of candidates in the Special General Election shall file a 12-day Pre-General Report on October 22, 2020; and a 30-day Post-General Report on December 3, 2020. (See charts below for the closing date for each report.)

Note that these reports are in addition to the campaign committee's regular quarterly filings. (See charts below for the closing date for each report).

Unauthorized Committees (PACs and Party Committees)

Political committees not filing monthly in 2020 or 2021 are subject to special election reporting if they make previously undisclosed contributions or expenditures in connection with the Georgia Special General or Special Runoff Elections by the close of books for the applicable report(s). (See charts below for the closing date for each report.)

Committees filing monthly that make contributions or expenditures in connection with the Georgia Special General or Special Runoff Elections will continue to file according to the monthly reporting schedule.

Additional disclosure information in connection with the Georgia special elections may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $19,000 during the special election reporting period. (See charts below for closing date of each period.) 11 CFR 104.22(a)(5)(v), (b), 110.17(e)(2), (f).

Calendar of Reporting Dates for Georgia Special Election
Report | Close of Books ¹ | Reg./Cert. & overnight mailing deadline | Filing deadline
If Only the Special General is Held (11/03/2020), Committees Involved Must File:
Pre-General | 10/14/2020 | 10/19/2020 | 10/22/2020
Post-General | 11/23/2020 | 12/03/2020 | 12/03/2020
Year-End | 12/31/2020 | 01/31/2021 | 01/31/2021 ²
If Two Elections are Held, Committees Involved Only in the Special General (11/03/2020) Must File:
Pre-General | 10/14/2020 | 10/19/2020 | 10/22/2020
Year-End | 12/31/2020 | 01/31/2021 | 01/31/2021 ²
Campaign Committees Involved in Both the Special General (11/03/2020) and Special Runoff (01/05/2021) Must File:
Pre-General | 10/14/2020 | 10/19/2020 | 10/22/2020
Pre-Runoff | 12/16/2020 | 12/21/2020 | 12/24/2020
Post-Runoff | 01/25/2021 | 02/04/2021 | 02/04/2021
Year-End | —WAIVED—
April Quarterly | 03/31/2021 | 04/15/2021 | 04/15/2021
PACs and Party Committees not Filing Monthly Involved in Both the Special General (11/03/2020) and Special Runoff (01/05/2021) Must File:
Pre-General | 10/14/2020 | 10/19/2020 | 10/22/2020
Pre-Runoff | 12/16/2020 | 12/21/2020 | 12/24/2020
Post-Runoff | 01/25/2021 | 02/04/2021 | 02/04/2021
Year-End | —WAIVED—
Mid-Year | 06/30/2021 | 07/31/2021 | 07/31/2021
If Two Elections Are Held, PACs and Party Committees not Filing Monthly Involved Only in the Special Runoff (01/05/2021) Must File:
Pre-Runoff | 12/16/2020 | 12/21/2020 | 12/24/2020
Post-Runoff | 01/25/2021 | 02/04/2021 | 02/04/2021
Year-End | —WAIVED—
Mid-Year | 06/30/2021 | 07/31/2021 | 07/31/2021
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: March 3, 2020.
On behalf of the Commission,
Caroline C. Hunter,
Chair, Federal Election Commission.

[FR Doc. 2020-04700 Filed 3-6-20; 8:45 am]

BILLING CODE 6715-01-P